SMALL BUSINESS ADMINISTRATION

[Disaster Declaration #15247 and #15248; Kentucky Disaster Number KY-00065]

Administrative Declaration of a Disaster for the State of Kentucky

AGENCY: U.S. Small Business Administration.

ACTION: Notice.

SUMMARY: This is a notice of an Administrative declaration of a disaster for the State of KENTUCKY.

Dated: 08/15/2017.

DATES: Issued on: 08/15/2017.

Physical Loan Application Deadline Date: 10/16/2017.

Economic Injury (EIDL) Loan Application Deadline Date: 05/15/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

Incident: Torrential Rains, Flash Flooding and Mudslides.

Incident Period: 07/23/2017.

The following areas have been determined to be adversely affected by the disaster:

Primary Counties: Mason

Contiguous Counties:

Kentucky: Bracken, Fleming, Lewis, Robertson

Ohio: Adams, Brown

The Interest Rates are:

| Percent
For Physical Damage:
Homeowners With Credit Available Elsewhere | 3.500
Homeowners Without Credit Available Elsewhere | 1.750
Businesses With Credit Available Elsewhere | 6.610
Businesses Without Credit Available Elsewhere | 3.305
Non-Profit Organizations With Credit Available Elsewhere | 2.500
Non-Profit Organizations Without Credit Available Elsewhere | 2.500
For Economic Injury:
Businesses & Small Agricultural Cooperatives Without Credit Available Elsewhere | 3.305
Non-Profit Organizations Without Credit Available Elsewhere | 2.500

The number assigned to this disaster for physical damage is 15247 B and for economic injury is 15248 0.

The States which received an EIDL Declaration # are Kentucky Ohio.

(Catalog of Federal Domestic Assistance Number 59008)

Dated: August 15, 2017.
Linda E. McMahon,
Administrator.

[FR Doc. 2017-17917 Filed 8-23-17; 8:45 am]

BILLING CODE 8025-01-P